DEPARTMENT OF THE INTERIOR

Fish and Wildlife Service

Approved Recovery Plan for the Great Lakes Piping Plover (Charadrius melodus)

AGENCY: Fish and Wildlife Service, Interior.

ACTION: Notice of document availability.

SUMMARY: The U.S. Fish and Wildlife Service (Service) announces the availability of the approved recovery plan for the Great Lakes piping plover (Charadrius melodus), a species that is federally listed as endangered under the Endangered Species Act of 1973 (Act), as amended (16 U.S.C. 1531 et seq.). This species occurs or may occur on public and private land in Illinois, Indiana, Michigan, Minnesota, New York, Ohio, Pennsylvania, Wisconsin, Alabama, Florida, Georgia, Louisiana, North Carolina, South Carolina, Mississippi, and Texas. Actions identified for recovery of the Great Lakes piping plover seek to increase population numbers throughout its range and to protect essential breeding and wintering habitat.

ADDRESSES: This recovery plan is available from the following addresses:

1. Fish and Wildlife Reference Service, 5430 Grosvenor Lane, Suite 110, Bethesda, Maryland 20814 (the fee for the plan varies depending on the number of pages).

2. Field Supervisor, U.S. Fish and Wildlife Service, East Lansing Ecological Services Field Office, 2651 Coolidge Road, East Lansing, Michigan 48823.

3. The World Wide Web at: http://endangered.fws.gov/RECOVERY/index.html#plans.

FOR FURTHER INFORMATION CONTACT: Mr. Jack Dingledine, East Lansing Ecological Services Field Office (see ADDRESSES section No. 2 above), telephone (517) 351-6320. The Fish and Wildlife Reference Service may be reached at (301) 492-6403 or (800) 582-3421. TTY users may contact Mr. Dingledine and the Fish and Wildlife Reference Service through the Federal Relay Service at (800) 877-8339.

SUPPLEMENTARY INFORMATION:

Background

Recovery of endangered or threatened animals or plants is a primary goal of the Service's endangered species program. A species is considered recovered when the species' ecosystem is restored and/or threats to the species are removed so that self-sustaining and self-regulating populations of the species can be supported as persistent members of native biotic communities. Recovery plans describe actions considered necessary for the conservation of the species, establish criteria for reclassification to threatened status or delisting listed species, and estimate time and cost for implementing the measures needed for recovery.

The Endangered Species Act of 1973, as amended, requires that recovery plans be developed for listed species unless such a plan would not promote the conservation of a particular species. Section 4(f) of the Act, as amended in 1988, requires that during recovery plan development, we provide public notice and an opportunity for public review and comment. Information presented during the comment period has been considered in the preparation of the approved recovery plan, and is summarized in an appendix to the recovery plan. We will forward substantive comments regarding recovery plan implementation to appropriate Federal agencies and other entities so that they can take these comments into account during the course of implementing recovery actions.

The Great Lakes piping plover, a sand-colored shorebird, was listed as an endangered species under the Act in 1985. It inhabits beaches on the Great Lakes during the breeding season of April through September, and winters on Atlantic and Gulf of Mexico coast beaches. Nesting occurs on wide, sand and cobble beaches with little vegetation and disturbance. In its wintering range, the Great Lakes piping plover roosts and forages along beaches, dunes, sandy and muddy flats of the Atlantic and gulf coasts. Destruction of habitat, disturbance, and increased predation rates due to elevated predator densities in its habitat are described as the main reasons for this species' endangered status and continue to be the primary threats to its recovery. Fifty-one nesting pairs were recorded in 2002, all in Michigan and Wisconsin. Breeding has not occurred outside of Michigan and Wisconsin for over a decade, although occurrence during migration has been recorded in other Great Lakes States.

The objective of this plan is to provide a framework for the recovery of the Great Lakes piping plover so that protection by the Act is no longer necessary. As recovery criteria are met, the status of the species will be reviewed, and it will be considered for removal from the list of Endangered and Threatened Wildlife (50 CFR part 17). The Great Lakes piping plover will be considered for reclassification to threatened when the following occurs: (1) The population has increased to at least 150 pairs (300 individuals) for at least 5 consecutive years, with at least 100 breeding pairs (200 individuals) in Michigan and 50 breeding pairs (100 individuals) distributed among sites in other Great Lakes States; (2) 5-year average fecundity is within the range of 1.5-2.0 fledglings each pair, per year, across the breeding distribution, and 10-year projections indicate the population is stable, or continuing to grow, above the recovery goal; (3) protection and long-term maintenance of essential breeding and wintering habitat are ensured, sufficient in quantity, quality and distribution to support the recovery goal of 150 pairs (300 individuals); and (4) genetic diversity within the population is deemed adequate for population persistence and can be maintained over the long-term. It will be considered for delisting when the following are achieved: (1) The reclassification criteria are met, and (2) agreements and funding mechanisms are in place for long-term protection and management activities in essential breeding and wintering habitats.

Authority: The authority for this action is section 4(f) of the Endangered Species Act, 16 U.S.C. 1533(f).

Dated: August 21, 2003.
Charles M. Wooley,
Assistant Regional Director, Ecological Services, Region 3, Fort Snelling, Minnesota.

[FR Doc. 03-23535 Filed 9-15-03; 8:45 am]

BILLING CODE 4310-55-P